DEPARTMENT OF THE TREASURY

Office of Foreign Assets Control

Designation of One (1) Entity Pursuant to Executive Order 13582 of August 17, 2011, “Blocking Property of the Government of Syria and Prohibiting Certain Transactions With Respect to Syria”

AGENCY: Office of Foreign Assets Control, Treasury.

ACTION: Notice.

SUMMARY: The Treasury Department's Office of Foreign Assets Control (“OFAC”) is publishing the name of one (1) entity whose property and interests in property are blocked pursuant to Executive Order 13582 of August 17, 2011, “Blocking Property of the Government of Syria and Prohibiting Certain Transactions With Respect to Syria.”

DATES: The designation by the Director of OFAC of the one (1) entity identified in this notice, pursuant to Executive Order 13582, is effective on May 16, 2013.

FOR FURTHER INFORMATION CONTACT: Assistant Director, Compliance Outreach & Implementation, Office of Foreign Assets Control, Department of the Treasury, 1500 Pennsylvania Avenue NW (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On August 17, 2011, the President issued Executive Order 13582, “Blocking Property of the Government of Syria and Prohibiting Certain Transactions With Respect to Syria,” (the “Order”) pursuant to, inter alia, the International Emergency Economic Powers Act (50 U.S.C. 1701-06). In the Order, the President took additional steps with respect to the national emergency declared in Executive Order 13338 of May 11, 2004, which was modified in scope and relied upon for additional steps taken in Executive Order 13399 of April 25, 2006, Executive Order 13460 of February 13, 2008, Executive Order 13572 of April 29, 2011, and Executive Order 13573 of May 18, 2011.

Section 1 of the Order blocks, with certain exceptions, all property and interests in property that are in the United States, that hereafter come within the United States, or that are or hereafter come within the possession or control of any United States person, including any overseas branch, of (1) the Government of Syria; (2) any person determined by the Secretary of the Treasury, in consultation with the Secretary of State, (a) to have materially assisted, sponsored, or provided financial, material, or technological support for, or goods or services in support of, any person whose property and interests in property are blocked pursuant to the Order; or (b) to be owned or controlled by, or to have acted or purported to act for or on behalf of, directly or indirectly, any person whose property and interests in property are blocked pursuant to the Order.

On May 16, 2013, the Director of OFAC, in consultation with the Department of State, designated, pursuant to one or more of the criteria set forth in subsection 1(b) of the Order, one (1) entity whose property and interests in property are blocked pursuant to Executive Order 13582.

The listing for the entity on OFAC's list of Specially Designated Nationals and Blocked Persons appear as follows:

Entity

1. AL-DUNYA TELEVISION (a.k.a. ADDOUNIA TV; a.k.a. AL DOUNIA; a.k.a. AL-DONYA TELEVISION CHANNEL; a.k.a. DUNIA LIMITED LIABILITY COMPANY FOR INFORMATION; a.k.a. DUNIA TELEVISION), Information Free Zone, Damascus, Syria [SYRIA].

Dated: May 16, 2013.
John H. Battle,
Acting Director, Office of Foreign Assets Control.

[FR Doc. 2013-12448 Filed 5-23-13; 8:45 am]

BILLING CODE 4810-AL-P